DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Migration Supplement to the Current Population Survey.

Form Number(s): CPS-263 (MIS-1) (L) (8-2007), CPS-263 (MIS-5) (L) (11-2006).

OMB Control Number: 0607-0710.

Type of Request: Reinstatement, with change, of an expired collection.

Burden Hours: 2,250.

Number of Respondents: 55,000.

Average Hours per Response: 1 minute.

Needs and Uses: The U.S. Census Bureau requests authorization from the Office of Management and Budget (OMB) to conduct the August 2008 Migration supplement to the Current Population Survey (CPS). This clearance request covers five topics of supplemental inquiry in addition to the CPS Basic instrument: Citizenship, Year of Entry, Residence One Year Ago, Residents and Emigrants Abroad, and Transfers.

As part of the federal government's efforts to collect data and provide timely information on migration for policy planning, the main citizenship and year of entry questions have been collected annually on the CPS Basic questionnaire since 1994. The Migration supplement to the CPS provides some basic data on contemporary migration dynamics and population change that is necessary for tracking historical trends. This supplement will be instrumental for understanding the prevalence and nature of changing migration patterns, which is necessary as background for maintaining high data quality, utility and relevance of data, and for policy planning and support. When combined with CPS-collected characteristics, such as citizenship, place of birth, parental nativity, income, and household relationships, the data can provide information on the social and economic adaptation of and the potential needs of the foreign-born population over time in the United States. The CPS August 2008 Migration supplement will be the only comprehensive, nationally representative source of data on multiple years of entry to the United States, time outside the United States since coming to the United States, emigration, and monetary remittances.

Affected Public: Individuals or households.

Frequency: One time.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at: dhynek@doc.gov).

Written comments and recommendations for the proposed information collection should be sent within 30 days of publication of this notice to Brian Harris-Kojetin, OMB Desk Officer either by fax (202-395-7245) or e-mail (bharrisk@omb.eop.gov).

Dated: March 24, 2008.
Gwellnar Banks,
Management Analyst, Office of the Chief Information Officer.

[FR Doc. E8-6259 Filed 3-26-08; 8:45 am]

BILLING CODE 3510-07-P